FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 5, 2005.

A. Federal Reserve Bank of St. Louis (Glenda Wilson, Community Affairs Officer) 411 Locust Street, St. Louis, Missouri 63166-2034:

1. Scott Lee Bolding, Fayetteville, Arkansas; John Spellings Everett, Collierville, Tennessee; John Edgar Griffin, Columbus, Mississippi; Dayton Reid Hedgepeth, Memphis, Tennessee; Donald Lee Hutson, Memphis, Tennessee; Pritesh Bhagubhai Patel, Fort Worth, Texas; Jon Abner Reeves, Southaven, Mississippi; James Lee Stafford, West Point, Mississippi; James Lynn Teel, Winter Park, Florida; Brent Derek Trulove, Memphis, Tennessee; Frank Pearson Uhlhorn, Germantown, Tennessee; Theodore Gaillard Uhlhorn, V, Memphis, Tennessee; John Bullington Walker, Germantown, Tennessee; and William Gerald Washington, Randolph, Mississippi, a group acting in concert; to acquire voting shares of MemphisFirst Corporation, Memphis, Tennessee, and thereby indirectly acquire voting shares of MemphisFirst Community Bank, Memphis, Tennessee.

Board of Governors of the Federal Reserve System, November 15, 2005.
Robert deV. Frierson,
Deputy Secretary of the Board.

[FR Doc. E5-6388 Filed 11-17-05; 8:45 am]

BILLING CODE 6210-01-S